DEPARTMENT OF LABOR

Employment and Training Administration

[TA-W-54,846]

Our America Gift, Inc., Agawam, MA; Notice of Termination of Investigation

Pursuant to section 221 of the Trade Act of 1974, as amended, an investigation was initiated on May 5, 2004, in response to a petition filed a company official on behalf of workers at Our America Gift, Inc., Agawam, Massachusetts.

The petitioner has requested that the petition be withdrawn. Consequently, the investigation has been terminated.

Signed at Washington, DC, this 12th day of May, 2004.
Richard Church,
Certifying Officer, Division of Trade Adjustment Assistance.

[FR Doc. 04-12872 Filed 6-7-04; 8:45 am]

BILLING CODE 4510-30-P